DEPARTMENT OF TRANSPORTATION

National Highway Traffic Safety Administration

[Docket No. NHTSA-2004-19122]

Re-Opening of Comment Period on Whether Nonconforming 2004 Lamborghini Gallardo Passenger Cars Are Eligible for Importation

AGENCY: National Highway Traffic Safety Administration (NHTSA), DOT.

ACTION: Re-opening of comment period.

SUMMARY: This document announces the reopening of the comment period on a petition for NHTSA to decide that 2004 Lamborghini Gallardo passenger cars that were not originally manufactured to comply with all applicable Federal motor vehicle safety standards are eligible for importation into the United States.

DATES: The closing date for comments on the petition is December 13, 2004.

ADDRESSES: Comments are to be submitted to: Docket Management, Room PL-401, 400 Seventh Street, SW., Washington, DC 20590. (Docket hours are from 9 a.m. to 5 p.m.) Anyone is able to search the electronic form of all comments received into any of our dockets by the name of the individual submitting the document (or signing the comment, if submitted on behalf of an association, business, labor union, etc.). You may review DOT's complete Privacy Act Statement in the Federal Register published on April 11, 2000 (Volume 65, Number 70; Pages 19477-787), or you may visit http://dms.dot.gov.

FOR FURTHER INFORMATION CONTACT: Coleman Sachs, Office of Vehicle Safety Compliance, NHTSA (202) 366-3151).

SUPPLEMENTARY INFORMATION: On October 13, 2004, NHTSA published a notice (at 69 FR 60933) that it had received a petition to decide that nonconforming 2004 Lamborghini Gallardo passenger cars are eligible for importation into the United States. The notice solicited public comments on the petition and stated that the closing date for comments is November 12, 2004.

This is to notify the public that NHTSA is reopening the comment period on this petition, and allowing it to run until December 13, 2004. This reopening is based on a request dated November 4, 2004, from Michael J. Grossman, the designated North American agent for Automobili Lamborghini, S.p.A.(“Lamborghini”), the vehicle's manufacturer. Mr. Grossman stated that an extension of the comment period was needed because prior business commitments precluded him from completing his analysis of the petition and preparing comments thereon by the November 12 deadline. Characterizing the petition as raising potentially complex technical and regulatory issues, and citing the unavailability of other company personnel who could prepare comments on the petition, Mr. Grossman asserted that Lamborghini would be unable to submit its comments before the closing date specified in the notice of petition.

NHTSA has decided to grant Lamborghini's request.

All comments received before the close of business on the closing date indicated above will be considered, and will be available for examination in the docket at the above address both before and after that date. To the extent possible, comments filed after the closing date will also be considered. Notice of final action on the petition will be published in the Federal Register pursuant to the authority indicated below.

Authority: 49 U.S.C. 30141(a)(1)(B) and (b)(1); 49 CFR 593.8; delegations of authority at 49 CFR 1.50 and 501.8.

Claude H. Harris,
Director, Office of Vehicle Safety Compliance.

[FR Doc. 04-26985 Filed 12-7-04; 8:45 am]

BILLING CODE 4910-59-P